DEPARTMENT OF HEALTH AND HUMAN SERVICES

Office of the Secretary

Request for Information on Innovative Programs To Reconnect Youth to Education and Employment and Promote Self-Sufficiency

AGENCY: Office of the Assistant Secretary for Planning and Evaluation (ASPE), U.S. Department of Health and Human Services (HHS).

ACTION: Request for information.

SUMMARY: HHS issues this Request for Information (RFI) in order to seek information about programs that provide services to help young people, ages 16 to 24, advance on education and employment pathways. This project is focused on the population of young people who are out of work and/or out of school, particularly those from lower income families and communities, sometimes called disconnected or opportunity youth. The information gathered will result in a public compendium that profiles selected programs operating in this area, particularly innovative programs.

DATES: Submit written comments at the address provided below no later than September 28, 2020.

ADDRESSES: Written comments should be submitted to ReconnectingYouthRFI@hhs.gov. HHS encourages the early submission of comments.

FOR FURTHER INFORMATION CONTACT: Lisa Trivits on the Reconnecting Youth team at ReconnectingYouthRFI@hhs.gov or 202-205-9256.

SUPPLEMENTARY INFORMATION: Invitation to Comment: HHS invites comments responding to the questions included in this notice. To ensure that your comments are clearly stated, please identify the specific question, or other section of this notice, that your comments address.

1.0 Background

In the fall of 2019, the Office of the Assistant Secretary for Planning and Evaluation (ASPE) within the U.S. Department of Health and Human Services, funded MDRC and its partner, Child Trends, to conduct a project examining practices and programs aimed at reconnecting youth to school and work. This RFI is intended to help identify programs for the first major task of the project, which is to conduct a scan of programs and practices, including innovative approaches, aimed at improving education and employment outcomes for disconnected young people from low-income families and communities. The information gathered through this RFI will result in a public compendium that profiles selected programs operating in this area, particularly innovative programs. To ensure this project reaches the full range of programs operating in the United States, including new and innovative programs, we are seeking recommendations on programs to be screened for inclusion in the compendium. Specifically, we are seeking information about programs that provide services to help youth ages 16 to 24 advance on education and employment pathways.

2.0 Request for Information

Through this RFI, HHS seeks to gather feedback from public stakeholders—state and local government agencies, local program operators, and the people that we serve—to identify programs that aim to improve education and employment outcomes for the population of young people who are out of work and out of school, particularly those from low income families or communities, sometimes called disconnected or opportunity youth. Please note that we will consider all recommended programs, but not all submissions will be included in the compendium.

We are looking for programs that fit the following criteria:

• Serves young people ages 16-24 (may also serve adults).

• Targets young people who are out of school, out of work, or have other risk factors (low income family, or community; parenting; justice involved; foster care; experiencing homelessness; has a disability).

• Provides services in support of education or employment goals.

• Currently operating in the United States.

3.0 Key Questions

Please use the questions below to tell us about programs that you think we should consider for this project.

3.1 What is the program's full name?

3.2 What is the program's website?

3.3 Where does the program operate (city, state, region, or national)?

3.4 Please provide a brief description of the mission and main activities of the program.

3.5 Please indicate yes/no/not sure if the program serves young people with any of the following characteristics:

Yes/No/Not sure

3.5a Ages 16 to 24

3.5b Did not complete high school

3.5c Not currently attending college/postsecondary education

3.5d Low income family/community

3.5e English Language Learners

3.5f Homeless

3.5g In foster care or aged out of foster care

3.5h Pregnant/Parenting

3.5i Involved in the juvenile or criminal justice system

3.5j Has a disability

Dated: July 23, 2020.
Brenda Destro,
Deputy Assistant Secretary for Planning and Evaluation (HSP).

[FR Doc. 2020-16422 Filed 7-28-20; 8:45 am]

BILLING CODE 4150-05-P